NUCLEAR REGULATORY COMMISSION

[Docket Nos. 50-269-SLR-2; 50-270-SLR-2; 50-287-SLR-2]

In the Matter of Duke Energy Carolinas, LLC, (Oconee Nuclear Station Units 1, 2, and 3); Order

On February 13, 2024, the Nuclear Regulatory Commission issued a notice in the Federal Register providing an opportunity to request a hearing and petition for leave to intervene with respect to the Draft Supplemental Environmental Impact Statement for Duke Energy Carolinas, LLC's subsequent license renewal application for Oconee Nuclear Station, Units 1, 2, and 3.¹ The Federal Register notice set a deadline of April 15, 2024, for filing a hearing request.

¹ Duke Energy Carolinas, LLC; Oconee Nuclear Station, Units 1, 2, and 3; Draft Supplemental Environmental Impact Statement, 89 FR10,107 (Feb. 13, 2024) (Hearing Notice).

Subsequently, on March 18, 2024, Beyond Nuclear and Sierra Club (together, Petitioners) filed a motion to extend by two weeks, until April 29, 2024, the deadline for Petitioners to request a hearing in this proceeding.² The Petitioners represent that the applicant has agreed not to oppose this extension request provided that its deadline to respond to such a hearing request is also extended by seven days, to May 31, 2024.³ In addition, the Petitioners state in the motion that the NRC Staff has not taken a position on the extension request.⁴

² Motion by Beyond Nuclear and Sierra Club for Extension of Time to Submit Hearing Request (Mar. 18, 2024) (ADAMS Accession no. ML24078A146).

³ Id. at 1.

⁴ Id. at 2.

As good cause for the requested extension, the Petitioners cite conflicting litigation obligations, a personal commitment, and that they “reasonably anticipated” that the Commission would withdraw the hearing request in light of the circumstances in two other subsequent license renewal proceedings.⁵ Under Commission precedent litigation burden is not good cause for an extension.⁶

⁵ Id. at 1-2. The Petitioners cite subsequent license renewal proceedings for North Anna Power Station, Units 1 and 2, and Turkey Point Nuclear Generating, Units 3 and 4, the draft supplemental environmental impact statements of which were similarly noticed for hearing opportunities in accordance with Commission direction. CLI-22-3, 95 NRC 40, 42 (2022). In the Turkey Point proceeding, the Atomic Safety and Licensing Board certified a question to the Commission concerning language in CLI-22-3, specifically, whether the Staff should have waited to issue the notice of opportunity for hearing until the completion of the final supplemental environmental impact statement. Florida Power & Light Co. (Turkey Point Nuclear Generating Units 3 and 4), LBP-24-1, 99 NRC __, __(Jan. 31, 2024) (slip op. at 4). The Commission recently issued an order in which it accepted the Board's certification and found the Staff's interpretation of CLI-22-3 with respect to the timing of the hearing notice acceptable. Florida Power & Light Co. (Turkey Point Nuclear Generating Units 3 and 4), CLI-24-1, 99 NRC __, __(Mar. 7, 2024) (slip op. at 6).

⁶ See Consolidated Edison Co. of New York (Indian Point, Units 1 and 2), CLI-01-8, 53 NRC 225, 229-30 (2001) (quoting Niagara Mohawk Power Corp. (Nine Mile Point, Units 1 & 2), 50 NRC 333, 343 (1999)).

Nevertheless, in this instance, the participants have consulted, the Petitioners and the applicant have reached agreement, and the motion is unopposed. Therefore, pursuant to my authority under 10CFR 2.346(b), I extend the deadline for all persons to file a hearing request in this proceeding until April 29, 2024. The deadline for answers to timely hearing requests shall be May 31, 2024, and the deadline for any replies shall be June 7, 2024. Petitions to intervene and requests for hearing shall be filed consistent with the instructions set out in the Electronic Submissions (E-Filing) section of the Hearing Notice.

It is so ordered.

For the Commission.
Dated at Rockville, Maryland, This 28th of March 2024.
Carrie Safford,
Secretary of the Commission.

[FR Doc. 2024-06983 Filed 4-2-24; 8:45 am]

BILLING CODE 7590-01-P